DEPARTMENT OF HOMELAND SECURITY

Coast Guard

33 CFR Part 117

[Docket No. USCG-2017-0721]

Drawbridge Operation Regulation; Lake Washington Ship Canal, Seattle, WA

AGENCY: Coast Guard, DHS.

ACTION: Notice of deviation from drawbridge regulation.

SUMMARY: The Coast Guard has issued a temporary deviation from the operating schedule that governs the University Bridge across the Lake Washington Ship Canal, mile 4.3, at Seattle, WA. The deviation is necessary to accommodate drawspan inspections. This deviation allows the bridge to operate in single leaf (half span) during inspections.

DATES: This deviation is effective from 9 a.m. on August 9, 2017, to 3 p.m. on August 10, 2017.

ADDRESSES: The docket for this deviation, USCG-2017-0721 is available at http://www.regulations.gov. Type the docket number in the “SEARCH” box and click “SEARCH.” Click on Open Docket Folder on the line associated with this deviation.

FOR FURTHER INFORMATION CONTACT: If you have questions on this temporary deviation, call or email Mr. Danny McReynolds, Bridge Management Specialist, Thirteenth Coast Guard District; telephone 206-220-7234, email: d13-pf-d13bridges@uscg.mil.

SUPPLEMENTARY INFORMATION: Seattle Department of Transportation, bridge owner, requested a temporary deviation from the operating schedule for the University Bridge across the Lake Washington Ship Canal, mile 4.3, at Seattle, WA, to allow safe inspections of each leaf of the double bascule drawspan. The University Bridge provides a vertical clearance of 30 feet in the closed-to-navigation position. Vertical clearances are referenced to the Mean Water Level of Lake Washington. While the bridge operates in single leaf (half span) mode, a horizontal clearance of 75 feet is provided. The normal operating schedule for the three subject bridge is in 33 CFR 117.1051. During this deviation period, the University Bridge is authorized to open half the drawspan to marine vessels from 9 a.m. on August 9, 2017, to 3 p.m. on August 9, 2017, and from 9 a.m. on August 10, 2017, to 3 p.m. on August 10, 2017.

Waterway usage on Lake Washington Ship Canal ranges from commercial tug and barge to small pleasure craft. Vessels able to pass under the bridge in the closed-to-navigation position may do so at anytime. The subject bridge will only be able to open the drawspan in single leaf for emergencies during this period, and there is no immediate alternate route for vessels to pass. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: July 31, 2017.
Steven Michael Fischer,
Bridge Administrator, Thirteenth Coast Guard District.

[FR Doc. 2017-16508 Filed 8-4-17; 8:45 am]

BILLING CODE 9110-04-P